DEPARTMENT OF THE INTERIOR

Bureau of Land Management

[MO4500178485]

Notice of Public Meeting, Southern New Mexico Resource Advisory Council, New Mexico

AGENCY: Bureau of Land Management, Interior.

ACTION: Notice of meeting.

SUMMARY: In accordance with the Federal Land Policy and Management Act of 1976, as amended, and the Federal Advisory Committee Act of 1972, the U.S. Department of the Interior, Bureau of Land Management's (BLM) Southern New Mexico Resource Advisory Council (RAC) will meet as indicated below.

DATES: The RAC is scheduled to host an in-person meeting, with a virtual participation option, on Thursday, June 6, 2024, from 8 a.m. to 4 p.m. Mountain Time (MT) at the BLM Las Cruces District Office. All RAC meetings are open to the public.

ADDRESSES: BLM Las Cruces Office, 1800 Marquess Street, Las Cruces, New Mexico 88005. A virtual participation option is available on the Zoom Webinar platform. To register, go to https://blm.zoomgov.com/webinar/register/WN_LsAFuJWfSMKLCv1hux6kUA.

FOR FURTHER INFORMATION CONTACT: Wendy Brown, BLM Pecos District Office, 2909 West Second Street, Roswell, New Mexico 880102; 575-627-0259; wabrown@blm.gov. Individuals in the United States who are deaf, blind, hard of hearing, or have a speech disability may dial 711 (TTY, TDD, or TeleBraille) to access telecommunications relay services. Individuals outside the United States can use relay services offered within their respective country to make international calls to the accessibility point-of-contact in the United States.

SUPPLEMENTARY INFORMATION: The chartered 12-member Southern New Mexico RAC advises the Secretary of the Interior, through the BLM New Mexico State Director, about planning and management of public land resources located within the jurisdictional boundaries of the RAC.

Planned meeting agenda items include a discussion and a vote on recreation fee increases for the BLM's Three Rivers Petroglyphs Recreation Site, a briefing on a recreation fee increase for Datil Well Campground, a discussion of land access issues in Southern New Mexico, updates from the BLM Socorro Field Office and the Pecos and Las Cruces District Offices, and other issues that may arise. A final agenda will be posted two weeks in advance of the meeting on the RAC web page at www.blm.gov/get-involved/resource-advisory-council/near-you/new-mexico/southern-rac.

Public Comment Procedures: The BLM welcomes comments from all interested parties. There will be a half-hour public comment period during the June 6 meeting beginning at 1:30 p.m. MT for any interested members of the public who wish to address the Southern New Mexico RAC. Advanced written comments pertaining to this meeting may be submitted in advance to the individual listed in the FOR FURTHER INFORMATION section of this notice. Please include “RAC Comment” in your submission. Depending on the number of persons wishing to speak, the time for individual comments may be limited. Before including an address, phone number, email address, or other personal identifying information in any comment, please be aware that all comments—including personal identifying information—may be made publicly available at any time. While requests can be made to withhold personal identifying information from public review, BLM cannot guarantee it will be able to do so.

Meeting Accessibility/Special Accommodations: For sign language interpreter services, assistive listening devices, or other reasonable accommodations, please contact Wendy Brown, BLM Pecos District Office, at (575) 627-0259, or wabrown@blm.gov at least seven business days before the meeting to ensure there is sufficient time to process the request. The Department of the Interior manages accommodation requests on a case-by-case basis.

Detailed meeting minutes for the Southern New Mexico RAC are maintained in the Las Cruces District Office, located at 1800 Marquess Street, Las Cruces, New Mexico 88005. Meeting minutes will be available for public inspection and reproduction during regular business hours within 90 days following the meeting. Minutes will also be posted on the RAC web page at https://www.blm.gov/get-involved/resource-advisory-council/near-you/new-mexico/southern-rac.

Authority: 43 CFR 1784.4-1.

James Stovall,
BLM Pecos District Manager.

[FR Doc. 2024-07283 Filed 4-4-24; 8:45 am]

BILLING CODE 4331-24-P